DEPARTMENT OF HOMELAND SECURITY

Coast Guard

33 CFR Part 165

[Docket No. USCG-2014-0081]

RIN 1625-AA00

Safety Zones; Annual Events in the Captain of the Port Zone Buffalo

AGENCY: Coast Guard, DHS.

ACTION: Final rule.

SUMMARY: The Coast Guard is revising its safety zone regulations for annually recurring firework displays and marine events within the Captain of the Port Zone Buffalo. The safety zones revised or established by this final rule are necessary to protect the surrounding public, spectators, participants, and vessels from the hazards associated with fireworks displays, hydroplane boat races, and other events of a similar nature posing a potential hazard to the safety of life and property on the navigable waters. This final rule is intended to restrict vessels from designated areas on navigable waterways during these events.

DATES: This rule is effective July 28, 2014.

ADDRESSES: Documents mentioned in this preamble are part of docket [USCG-2014-0081]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email LT Christopher Mercurio, Chief of Waterways Management, U.S. Coast Guard Sector Buffalo; telephone 716-843-9573, email SectorBuffaloMarineSafety@uscg.mil. If you have questions on viewing the docket, call Barbara Hairston, Program Manager, Docket Operations, telephone 202-366-9826 or 1-800-647-5527.

SUPPLEMENTARY INFORMATION:

Table of Acronyms

DHS Department of Homeland Security

FR Federal Register

NPRM Notice of Proposed Rulemaking

§ Section

A. Regulatory History and Information

The regulations found in 33 CFR 165.939 serve to protect the boating public from hazards associated with firework displays that take place on a navigable waterway within the Captain of the Port (COTP) Zone Buffalo. For boundaries of this COTP zone, see 33 CFR 3.45-10.

In 2013, the Captain of the Port Buffalo revised the regulations found in 33 CFR 165.939 through a final rule published April 23, 2013 (78 FR 23850). Those revisions clarified the locations of many outdated safety zones and established seven additional safety zones within the Captain of the Port Zone Buffalo area of responsibility. On May 1, 2014, we published an NPRM entitled Safety Zones; Annual Fireworks Events in the Captain of the Port Buffalo Zone in the Federal Register (79 FR 24656) that proposed to revise § 165.939 to provide greater regulatory flexibility for enforcement notification and to add six safety zones. We received no comments on the proposed rule.

B. Basis and Purpose

Section 165.939 currently lists 29 permanent safety zones within the Captain of the Port Zone Buffalo. Each of these 29 safety zones corresponds to an annually recurring fireworks display.

After the recent 2013 summer season it was noted the effective times and dates published for these events were not always rigidly adhered to by fireworks sponsors and event organizers and thus a subsequent regulatory update enacting greater regulatory flexibility for enforcement notification was desired in order to maximize Coast Guard efficiency and public safety. Also, the COTP Buffalo has decided to enforce safety zones for one additional firework display and five additional marine events.

With the above findings in mind, the Coast Guard is revising 33 CFR 165.939 to provide more flexibility in the enforcement periods and to include several non-fireworks events.

The Captain of the Port Buffalo has determined that these events present significant hazards to public spectators and participants. Such hazards include premature detonations, dangerous detonations, dangerous projectiles, falling or burning debris, vessels of unique design operating at great speed, and large numbers of competitive swimmers.

C. Discussion of Comments, Changes and the Final Rule

As noted above, we received no comments on the NPRM (79 FR 24656). We have not made any changes from the proposed rule.

For all of the above reasons, the Captain of the Port Sector Buffalo is revising 33 CFR 165.939. This revision will change the verbiage on the enforcement period for all 29 safety zones currently listed and establish six additional safety zones in § 165.939. These new safety zones are being added as paragraphs (30) Thunder on the Niagara Hydroplane boat races, North Tonawanda, NY; (31) Antique Boat Show Hydroplane boat races, Grand Island, NY; (32) D-Day Conneaut Air show, Conneaut, OH; (33) Bay Swim, Erie, PA; (34) Rover Fest fireworks display, Cleveland, OH; and (35) Cleveland National Air show, Cleveland, OH. Although this rule will remain in effect throughout the year, the safety zones within it will be enforced only before and during each corresponding event.

The enforcement dates and times for each of the safety zones listed in § 165.939 are subject to change, but the duration of enforcement would remain the same or nearly the same as the total number of hours identified for that zone in § 165.939. For any given year, in the event of a change in the enforcement period, the Captain of the Port Sector Buffalo will provide notice to the public by publishing a Notice of Enforcement in the Federal Register, as well as, issuing a Broadcast Notice to Mariners.

Entry into, transiting, or anchoring within the safety zones identified in § 165.939 will be prohibited unless authorized by the Captain of the Port Buffalo or his on-scene representative. The Captain of the Port or his on-scene representative may be contacted via VHF Channel 16.

D. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

2. Impact on Small Entities

Under the Regulatory Flexibility Act (5 U.S.C. 601-612), we have considered the impact of this rule on small entities. The Coast Guard received no comments from the Small Business Administration on this rule. The Coast Guard certifies under 5 U.S.C. 605(b) that this rule will not have a significant economic impact on a substantial number of small entities.

This rule would affect the following entities, some of which might be small entities: The owners and operators of vessels intending to transit or anchor in any one of the safety zones while these zones are being enforced. These safety zones will not have a significant economic impact on a substantial number of small entities for the following reasons: Each safety zone in this rule will be in enforced for no more than 10 hours in any 24-hour period with the majority of zones only being in enforced for a few hours in any 24 hour period. Each of the safety zones will be enforced only once per year and will be in areas with low commercial vessel traffic. Furthermore, these safety zones have been designed to allow traffic to pass safely around each zone. In the event that a safety zone affects shipping, commercial vessels may request permission from the Captain of the Port Buffalo or his or her designated representative to transit the safety zone.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above. The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

8. Taking of Private Property

This rule would not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This rule is categorically excluded, under figure 2-1, paragraph (34)(g), of the Commandant Instruction because it involves the establishment of a safety zone.

An environmental analysis checklist and a categorical exclusion determination are available in the docket where indicated under ADDRESSES. We seek any comments or information that may lead to the discovery of a significant environmental impact from this rule.

List of Subjects in 33 CFR Part 165

Harbors, Marine Safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for Part 165 continues to read as follows:

Authority: 33 U.S.C. 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Revise § 165.939 to read as follows:

§ 165.939 Safety Zones; Annual Events in the Captain of the Port Buffalo Zone.

(a) Safety Zones. The following are designated as safety zones. The enforcement dates and times for each of the safety zones listed in this section are subject to change, but the duration of enforcement would remain the same or nearly the same as the total number of hours as published. In the event of a change, the Captain of the Port Sector Buffalo will provide notice to the public by publishing a Notice of Enforcement in the Federal Register, as well as, issuing a Broadcast Notice to Mariners.

(1) Boldt Castle 4th of July Fireworks, Heart Island, NY. (i) Location. All U.S. waters of the Saint Lawrence River within a 1,120 foot radius of land position 44°20′38.5″ N, 075°55′19.1″ W (NAD 83) at Heart Island, NY.

(ii) Enforcement period. July 4 from 8:30 p.m. to 10:30 p.m. each year.

(2) Clayton Chamber of Commerce Fireworks, Calumet Island, NY. (i) Location. All U.S. waters of the Saint Lawrence River within an 840 foot radius of land position 44°15′04″ N, 076°05′40″ W (NAD 83) at Calumet Island, NY.

(ii) Enforcement period. July 3 from 9 p.m. to 11:30 p.m. of each year.

(3) French Festival Fireworks, Cape Vincent, NY. (i) Location. All U.S. waters of the Saint Lawrence River within an 840 foot radius of land position 44°07′54.6″ N, 076°20′01.3″ W (NAD 83) in Cape Vincent, NY.

(ii) Enforcement period. The second weekend of July from 9:15 p.m. to 11 p.m. each year.

(4) Lyme Community Days, Chaumont, NY. (i) Location. All U.S. waters of Chaumont Bay within a 560 foot radius of position 44°04′06.3″ N, 076°08′56.8″ W (NAD 83) in Chaumont, NY.

(ii) Enforcement period. The fourth weekend of July from 8:30 p.m. to 11 p.m. each year.

(5) Village Fireworks, Sackets Harbor, NY. (i) Location. All U.S. waters of Black River Bay within an 840 foot radius of position 43°56′51.9″ N, 076°07′46.9″ W (NAD 83) in Sackets Harbor, NY.

(ii) Enforcement period. July 4 from 8:30 p.m. to 10:30 p.m. each year.

(6) Can-Am Festival, Sackets Harbor, NY. (i) Location. All U.S. waters of Black River Bay within a 1,120 foot radius of position 43°57′15.9″ N, 076°06′39.2″ W (NAD 83) in Sackets Harbor, NY.

(ii) Enforcement period. The third weekend of July from 9 p.m. to 10:45 p.m. each year.

(7) Oswego Harborfest, Oswego, NY. (i) Location. All U.S. waters of Lake Ontario within a 1,000 foot radius of position 43°28′10″ N, 076°31′04″ W (NAD 83) in Oswego, NY.

(ii) Enforcement period. The last Saturday of July from 9 to 10:30 p.m. each year.

(8) Brewerton Fireworks, Brewerton, NY. (i) Location. All U.S. waters of Lake Oneida within an 840 foot radius of barge position 43°14′16.4″ N, 076°08′03.6″ W (NAD 83) in Brewerton, NY.

(ii) Enforcement period. July 3 from 9 p.m. to 10:30 p.m. each year.

(9) Celebrate Baldwinsville Fireworks, Baldwinsville, NY. (i) Location. All U.S. waters of the Seneca River within a 700 foot radius of land position 43°09′24.9″ N, 076°20′18.9″ W (NAD 83) in Baldwinsville, NY.

(ii) Enforcement period. The first weekend of July from 9 p.m. to 11 p.m. each year.

(10) Island Festival Fireworks, Baldwinsville, NY. (i) Location. All U.S. waters of the Seneca River within a 1,120 foot radius of land position 43°09′22″ N, 076°20′15″ W (NAD 83) in Baldwinsville, NY.

(ii) Enforcement period. The first weekend of July from 9:30 p.m. to 11 p.m. each year.

(11) Seneca River Days, Baldwinsville, NY. (i) Location. All U.S. waters of the Seneca River within an 840 foot radius of land position 43°09′25″ N, 076°20′21″ W (NAD 83) in Baldwinsville, NY.

(ii) Enforcement period. The second weekend of July from 9 p.m. to 10:30 p.m. each year.

(12) City of Syracuse Fireworks Celebration, Syracuse, NY. (i) Location. All U.S. waters of Onondaga Lake within a 350 foot radius of land position 43°03′37″ N, 076°09′59″ W (NAD 83) in Syracuse, NY.

(ii) Enforcement period. The last weekend of June from 9:30 p.m. to 10:30 p.m. each year.

(13) Tom Graves Memorial Fireworks, Port Bay, NY. (i) Location. All U.S. waters of Port Bay within an 840 foot radius of barge position 43°18′14.8″ N, 076°50′17.3″ W (NAD 83) in Port Bay, NY.

(ii) Enforcement period. July 3 from 9 p.m. to 10:30 p.m. of each year.

(14) Village Fireworks, Sodus Point, NY. (i) Location. All U.S. waters of Sodus Bay within a 1,120 foot radius of land position 43°16′28.7″ N, 076°58′27.5″ W (NAD 83) in Sodus Point, NY.

(ii) Enforcement period. July 3 from 9:30 p.m. to 10:30 p.m. each year.

(15) Rochester Harbor and Carousel Festival, Rochester, NY. (i) Location. All U.S. waters of Lake Ontario within a 1,120 foot radius of land position 43°15′40.2″ N, 077°36′05.1″ W (NAD 83) in Rochester, NY.

(ii) Enforcement period. The fourth Monday of June from 8 p.m. to 10 p.m. each year.

(16) A Salute to our Heroes, Hamlin Beach State Park, NY. (i) Location. All U.S. waters of Lake Ontario within a 560 foot radius of land position 43°21′51.9″ N, 077°56′59.6″ W (NAD 83) in Hamlin, NY.

(ii) Enforcement period. The first weekend of July from 9:45 p.m. to 11:30 p.m. each year.

(17) Olcott Fireworks, Olcott, NY. (i) Location. All U.S. waters of Lake Ontario within a 1,120 foot radius of land position 43°20′23.6″ N, 078°43′09.5″ W (NAD 83) in Olcott, NY.

(ii) Enforcement period. July 3 from 9:30 p.m. to 11 p.m. of each year.

(18) North Tonawanda Fireworks, North Tonawanda, NY. (i) Location. All U.S. waters of the East Niagara River within a 1,400 foot radius of land position 43°01′39.6″ N, 078°53′07.5″ W (NAD 83) in North Tonawanda, NY.

(ii) Enforcement period. July 4 from 8:45 p.m. to 10:15 p.m. of each year.

(19) Tonawanda's Canal Fest Fireworks, Tonawanda, NY. (i) Location. All U.S. waters of the East Niagara River within a 210 foot radius of land position 43°01′17.8″ N, 078°52′40.9″ W (NAD 83) in Tonawanda, NY.

(ii) Enforcement period. The fourth Sunday of July from 9 p.m. to 10:30 p.m. each year.

(20) Celebrate Erie Fireworks, Erie, PA. (i) Location. All U.S. waters of Presque Isle Bay within an 800 foot radius of land position 42°08′19″ N, 080°05′29″ W (NAD 83) in Erie, PA.

(ii) Enforcement period. The third weekend of August from 9:45 p.m. to 10:30 p.m. each year.

(21) Conneaut Fourth of July Fireworks, Conneaut, OH. (i) Location. All U.S. waters of Lake Erie within an 840 foot radius of position 41°58′01.3″ N, 080°33′39.5″ W (NAD 83) in Erie, PA.

(ii) Enforcement period. The first Sunday of July from 9 p.m. to 11:30 p.m. each year.

(22) Fairport Harbor Mardi Gras, Fairport, OH. (i) Location. All U.S. waters of Lake Erie within a 350 foot radius of land position 41°45′30″ N, 081°16′18″ W (NAD 83) east of the harbor entrance at Fairport Harbor Beach, OH.

(ii) Enforcement period. The beginning of the second week of July from 9 p.m. to 10:30 p.m. each year.

(23) Mentor Harbor Yacht Club Fireworks, Mentor Harbor, OH. (i) Location. All U.S. waters of Lake Erie and Mentor Harbor within a 700 foot radius of land position 41°43′36″ N, 081°21′09″ W (NAD 83) in Mentor Harbor, OH.

(ii) Enforcement period. July 3 from 9 p.m. to 10:30 p.m. each year.

(24) Browns Football Halftime Fireworks, Cleveland, OH. (i) Location. All U.S. waters of Cleveland Harbor and Lake Erie encompassed by a line beginning at approximate land position 41°30′49.4″ N, 081°41′37.2″ W (the northwest corner of Burke Lakefront Airport); continuing northwest to 41°31′10.6″ N, 081°41′53.0″ W; then southwest to 41°30′48.6″ N, 081°42′30.9″ W (the northwest corner of dock 28 at the Cleveland Port Authority) then northeast back to the starting point at 41°30′49.4″ N, 081°41′37.2″ W (NAD 83).

(ii) Enforcement period. On a Sunday during the second or third Cleveland Browns home game each year. The Captain of the Port will issue a Notice of Enforcement each year for this Browns Football Halftime Fireworks' safety zone.

(25) City of Cleveland 4th of July, Cleveland, OH. (i) Location. All U.S. waters of Lake Erie and Cleveland Harbor within a 1,000 foot radius of land position 41°30′10″ N, 081°42′36″ W (NAD 83) at Dock 20 in Cleveland, OH.

(ii) Enforcement period. July 4 from 9:30 p.m. to 11 p.m. each year.

(26) Cleveland Yachting Club Fireworks Display, Rocky River, OH. (i) Location. All U.S. waters of the Rocky River and Lake Erie within a 560 foot radius of land position 41°29′25.7″ N, 081°50′18.5″ W (NAD 83), at Sunset Point on the western side of the mouth of the Rocky River in Cleveland, OH.

(ii) Enforcement period. The second Thursday of July from 9:15 p.m. to 11 p.m. each year.

(27) Sheffield Lake Fireworks, Sheffield Lake, OH. (i) Location. All U.S. waters of Lake Erie within a 700 foot radius of land position 41°29′26.2″ N, 082°06′47.7″ W (NAD 83), at the lake front area in Sheffield Lake, OH.

(ii) Enforcement period. The second Friday of July from 9:30 p.m. to 11 p.m. each year.

(28) Lorain 4th of July Celebration Fireworks, Lorain, OH. (i) Location. All U.S. waters of Lorain Harbor within a 1,400 foot radius of land position 41°28′35.5″ N, 082°10′51.3″ W (NAD 83), east of the harbor entrance on the end of the break wall near Spitzer's Marina.

(ii) Enforcement period. July 4 from 9:15 p.m. to 11 p.m. each year.

(29) Lorain Port Fest Fireworks Display, Lorain, OH. (i) Location. All U.S. waters of Lorain Harbor within a 750 foot radius of land position 41°28′02.4″ N, 082°10′21.9″ W (NAD 83) in Lorain, OH.

(ii) Enforcement period. The third weekend of July from 9:45 p.m. to 11 p.m. each year.

(30) Thunder of the Niagara Hydroplane boat races, North Tonawanda, NY. (i) Location. All U.S. waters of Niagara River, near North Tonawanda, NY within 2 miles of the North Grand Island Bridge, encompassed by a line starting at 43°03′32.95″ N, 078°54′46.93″ W to 43°03′14.55″ N, 078°55′15.97″ W then to 43°02′39.72″ N, 078°54′13.05″ W then to 43°02′59.99″ N, 078°53′41.99″ W and returning to the point of origin (NAD 83).

(ii) Enforcement period. The second of weekend of August from 9 a.m. to 5 p.m. each year.

(31) Antique Boat Show Hydroplane boat races, Grand Island, NY. (i) Location. All waters of Niagara River, Grand Island, NY encompassed by a line starting at position 42°59′59″ N, 078°56′22″ W, East to 49°59′54″ N,078°56′14″ W, South to 42°57′54″ N, 078°56′04″ W, West to 42°057′48″ N, 078°56′22″ W and returning to the point of origin (NAD 83)

(ii) Enforcement period. The first weekend of September from 9 a.m. to 4 p.m. each year.

(32) D-Day Conneaut Air Show, Conneaut, OH. (i) Location. All U.S. waters of Conneaut Township Park, Lake Erie, Conneaut, OH encompassed by a line starting at 41°57.71′ N, 080°34.18′ W; to 41°58.36′N, 080°34.17′ W; then to 41°58.53′ N, 080°33.55′ W; to 41°58.03′ N, 080°33.72′W; and returning to the point of origin. (NAD 83).

(ii) Enforcement period. The third weekend of August from 1:45 p.m. to 5:30 p.m. each year.

(33) Bay Swim, Erie, PA. (i) Location. All U.S. waters of Presque Isle Bay, Erie, PA within a 1000 feet of a line starting at Vista 3 in Presque Isle State Park at position 42°07′29.30″ N, 80°08′48.82″ W and ending at to the Erie Yacht Club at position 42°07′21.74″ N, 80°07′58.30″ W (NAD 83).

(ii) Enforcement period. The third week in June each year.

(34) Rover Fest fireworks display, Cleveland, OH. (i) Location. All U.S. waters of Lake Erie, Cleveland, OH within a 280 foot radius from position 41°30′34.23″ N and 081°41′ 55.73″ W (NAD 83).

(ii) Enforcement period. The second or third weekend of July each year.

(35) Cleveland National Air show, Cleveland, OH. (i) Location. The safety zone encompass the portion of Lake Erie and Cleveland Harbor within a line originating near Burke Lakefront Airport from position 41°30′20″ N and 081°42′20″ W to 41°30′50″ N and 081°42′49″ W, to 41°32′09″ N and 081°39′49″ W, to 41°31′53″ N and 081°39′24″ W, then return to the original position (NAD 83).

(ii) Enforcement period. On the Friday before Labor Day through the Wednesday following Labor Day with maximum daily times from 8 a.m. to 6 p.m. The daily time period will be reduced as operations permit.

(b) Definitions. The following definitions apply to this section:

(1) On-scene Representative means any Coast Guard commissioned, warrant, or petty officer designated by the Captain of the Port Buffalo to monitor a safety zone, permit entry into the zone, give legally enforceable orders to persons or vessels within the zones, and take other actions authorized by the Captain of the Port.

(2) Public vessel means vessels owned, chartered, or operated by the United States, or by a State or political subdivision thereof.

(c) Regulations. In accordance with the general regulations in § 165.23, entry into, transiting, or anchoring within is the aforementioned safety zones are prohibited unless authorized by the Captain of the Port Buffalo or his designated on-scene representative.

(1) The safety zones described in paragraph (a) of this section are closed to all vessel traffic, except as may be permitted by the Captain of the Port Buffalo or his designated on-scene representative.

(2) Vessel operators desiring to enter or operate within the safety zones described in paragraph (a) of this section must contact the Captain of the Port Buffalo or his on-scene representative to obtain permission to do so. The Captain of the Port Buffalo or his on-scene representative may be contacted via VHF Channel 16. Vessel operators given permission to enter or operate in a safety zone must comply with all directions given to them by the Captain of the Port Buffalo, or his on-scene representative.

(d) Exemption. Public vessels, as defined in paragraph (c) of this section, are exempt from the requirements in this section.

(e) Waiver. For any vessel, the Captain of the Port Buffalo or his designated representative may waive any of the requirements of this section, upon finding that operational conditions or other circumstances are such that application of this section is unnecessary or impractical for the purposes of public or environmental safety.

(f) Notification. The Captain of the Port Buffalo will notify the public that the safety zones in this section are or will be enforced by all appropriate means to the affected segments of the public through publication in the Federal Register as practicable, in accordance with 33 CFR 165.7(a). Additionally, the enforcement dates and times for each of the safety zones listed above are subject to change, though the duration of enforcement would remain the same or nearly the same total number of hours as stated above. In either event, whether the safety zones occur at the dates and times as stated above, or whether the date or time of a safety zone changes, the Captain of the Port Buffalo will similarly make such notification as described in this paragraph (f). Such means of further notification may also include, but are not limited to Broadcast Notice to Mariners or Local Notice to Mariners. The Captain of the Port will issue a Broadcast Notice to Mariners notifying the public when enforcement of the safety zone is cancelled.

Dated: June 12, 2014.
B. W. Roche,
Captain, U.S. Coast Guard, Captain of the Port Buffalo.

[FR Doc. 2014-15119 Filed 6-26-14; 8:45 am]

BILLING CODE 9110-04-P